DEPARTMENT OF HOMELAND SECURITY

Coast Guard

33 CFR Part 165

[Docket No. USCG-2026-0034]

Security Zone; Lower Mississippi River, Mile Marker 94 to 97 Above Head of Passes, New Orleans, LA

AGENCY: Coast Guard, DHS.

ACTION: Notification of enforcement of regulation.

SUMMARY: The Coast Guard will enforce a security zone for all navigable waters within 350 yards of the Left Descending Bank (LDB) of the Lower Mississippi River (LMR) Mile Marker (MM) 94.4 to MM 95.7, Above Head of Passes (AHP), New Orleans, LA from February 14, 2026 through February 17, 2026. This security zone provides security and protection for visiting personnel during the events related to Mardi Gras celebrations. During the aforementioned periods, no person or vessel may enter this security zone unless authorized by the Captain of the Port New Orleans (COTP) or a designated representative.

DATES: The regulations in 33 CFR 165.846 will be enforced from 12:01 a.m. on February 14, 2026, through 11:59 p.m. on February 17, 2026.

FOR FURTHER INFORMATION CONTACT: If you have questions about this notification of enforcement, call or email Lieutenant Commander Jacob Gamble, Sector New Orleans, U.S. Coast Guard, 504-269-7251, email Jacob.S.Gamble@uscg.mil.

SUPPLEMENTARY INFORMATION: The Coast Guard will enforce a security zone in 33 CFR 165.846 for events related to Mardi Gras Celebrations from February 14, 2026, through February 17, 2026. This action is being taken to provide security and protection for visiting personnel during the events related to Mardi Gras. The security zone will cover all navigable waters within 350 yards of the Left Descending Bank on the Lower Mississippi River from MM 94.4 to MM 95.7 AHP, New Orleans, LA. No person or vessel may enter this security zone unless authorized by the Captain of the Port New Orleans (COTP) or a designated representative. A designated representative means any Coast Guard commissioned, warrant, or petty officer of the U.S. Coast Guard assigned to units under the operational control of Sector New Orleans; to include a Federal, State, and/or local officer designated by or assisting the COTP in the enforcement of the security zone. To seek permission to enter, contact the COTP or a designated representative by telephone at (504) 365-2209 or VHF-FM Channel 16 and 67. Those in the security zone must transit at their slowest speed and comply with all lawful orders or directions given to them by the COTP or a designated representative.

In addition to this notification of enforcement in the Federal Register, the Coast Guard plans to provide notification of this enforcement period and any changes in the planned schedule via Broadcast Notice to Mariners and actual notice via VHF-FM Channels 16 and 22A.

G.A. Callaghan,
Captain, U.S. Coast Guard, Captain of the Port Sector New Orleans.

[FR Doc. 2026-02338 Filed 2-5-26; 8:45 am]

BILLING CODE 9110-04-P